DEPARTMENT OF THE INTERIOR

Bureau of Land Management

[LLES003420.L14300000.EU0000; MIES-056498]

Notice of Intent To Amend the 1985 Michigan Resource Management Plan and Associated Environmental Assessment, Marquette County, MI

AGENCY: Bureau of Land Management, Interior.

ACTION: Notice of Intent.

SUMMARY: In compliance with the National Environmental Policy Act of 1969, as amended, and the Federal Land Policy and Management Act (FLPMA) of 1976, as amended, the Bureau of Land Management (BLM) Northeastern States Field Office, Milwaukee, Wisconsin, intends to prepare a Resource Management Plan (RMP) amendment with an associated Environmental Assessment (EA) for the State of Michigan. With this notice, the BLM is announcing the beginning of the scoping process to solicit public comments and identify issues for the purpose of amending the RMP to identify the specific parcel of land for disposal through sale and clarify in the EA whether the parcel meets the FLPMA Section 203 sale criteria.

DATES: This notice initiates the public scoping process for the RMP amendment with associated EA. Comments on issues may be submitted in writing until June 21, 2012. The date(s) and location(s) of any scoping meetings will be announced at least 15 days in advance through local news media, newspapers and the BLM Web site at: http://www.blm.gov/es/st/en.html. In order to be included in the analysis, all comments must be received prior to the close of the 30-day scoping period or 30 days after the last public meeting, whichever is later. We will provide additional opportunities for public participation as appropriate.

ADDRESSES: You may submit comments on issues and planning criteria related to the 1985 Michigan RMP Amendment by any of the following methods:

• Web site: http://on.doi.gov/ygRVPY.

• Email: cgrundma@blm.gov.

• Fax: (414) 297-4409.

• Mail: BLM Northeastern States Field Office, 626 East Wisconsin Avenue, Suite 200, Milwaukee, Wisconsin 53202-4617.

Documents pertinent to this proposal may be examined at the Northeastern States Field Office, 626 East Wisconsin Avenue, Suite 200, Milwaukee, Wisconsin 53202-4617.

FOR FURTHER INFORMATION CONTACT: And/or to have your name added to our mailing list, contact Carol Grundman, Realty Specialist, telephone (414) 297-4447; address BLM Northeastern States Field Office, 626 East Wisconsin Avenue, Suite 200, Milwaukee, Wisconsin 53202-4617; email cgrundma@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Northeastern States Field Office, Milwaukee, Wisconsin, intends to prepare an RMP amendment with an associated EA for the 1985 Michigan RMP, announces the beginning of the scoping process, and seeks public input on issues and planning criteria. The planning area is located in Marquette County, Michigan, and encompasses approximately 0.82 acres of public land. The purpose of the public scoping process is to determine relevant issues that will influence the scope of the EA, including alternatives, and guide the planning process. Preliminary issues for the plan amendment area have been identified by BLM personnel; Federal, State, and local agencies; and other stakeholders. The issues include: Impact of the proposed amendment on land use values, ownership, and potential development; impact of the proposed amendment on cultural resources, such as archeological sites and historic trails; and impact of the proposed amendment on wildlife. Preliminary planning criteria include: Section 203 of FLPMA sale criteria (43 U.S.C. 1713); and BLM policy interpreting Sections 202 and 203 of FLPMA that require areas available for disposal to be identified by parcel or legal description. You may submit comments on issues and planning criteria in writing to the BLM at any public scoping meeting, or you may submit them to the BLM using one of the methods listed in the ADDRESSES section above. To be most helpful, you should submit comments by the close of the 30-day scoping period or within 30 days after the last public meeting, whichever is later.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM will use an interdisciplinary approach to develop the plan amendment in order to consider the variety of resource issues and concerns identified. Specialists with expertise in the following disciplines will be involved in the planning process: archaeology, wildlife and fisheries, and lands and realty.

Authority: 40 CFR 1501.7 and 43 CFR 1610.2.

John G. Lyon,
State Director.

[FR Doc. 2012-12228 Filed 5-21-12; 8:45 am]

BILLING CODE 4310-GJ-P